NATIONAL ARCHIVES AND RECORDS ADMINISTRATION

Advisory Committee on the Records of Congress; Meeting

AGENCY: National Archives and Records Administration.

ACTION: Notice of Meeting.

SUMMARY: In accordance with the Federal Advisory Committee Act, the National Archives and Records Administration (NARA) announces a meeting of the Advisory Committee on the Records of Congress. The committee advises NARA on the full range of programs, policies, and plans for the Center for Legislative Archives in the Office of Records Services.

DATES: January 28, 2008 from 10 a.m. to 11 a.m.

ADDRESSES: National Archives and Records Administration, Archivist's Board Room (Room 119), 700 Pennsylvania Avenue, NW., Washington, DC 20408

FOR FURTHER INFORMATION CONTACT: Richard H. Hunt, Director, Center for Legislative Archives, (202) 357-5350.

SUPPLEMENTARY INFORMATION:

Agenda

(1) Chair's opening remarks—Secretary of the Senate

(2) Recognition of Co-chair—Clerk of the House

(3) Recognition of the Archivist of the United States

(4) Approval of the minutes of the last meeting

(5) Follow-up discussion of Committee goals

(6) Annual Report of the Center for Legislative Archives

(7) Other current issues and new business

The meeting is open to the public.

This notice is published less than 15 calendar days before the meeting because of scheduling difficulties.

Dated: January 11, 2008.
Mary Ann Hadyka,
Committee Management Officer.

[FR Doc. E8-747 Filed 1-15-08; 8:45 am]

BILLING CODE 7515-01-P